DEPARTMENT OF HEALTH AND HUMAN SERVICES

National Institutes of Health

National Advisory Child Health and Human Development Council Stillbirth Working Group Meeting

AGENCY: National Institutes of Health, HHS.

ACTION: Notice.

SUMMARY: The Eunice Kennedy Shriver National Institute of Child Health and Human Development (NICHD) Stillbirth Working Group of Council is charged with identifying current knowledge on stillbirth and prevention, areas of improvement for data collection, current resources for families impacted by stillbirth, and next steps to gather data and lower the rate of stillbirth in the United States.

DATES: The virtual meeting will be held on October 31, 2023, from 1 p.m. to 5 p.m. EST.

ADDRESSES: The virtual meeting will be videocast and can be accessed from the NIH Videocasting website at http://videocast.nih.gov/.

FOR FURTHER INFORMATION CONTACT: For information concerning this meeting, Dr. Natasha H. Williams, Branch Chief, Office of Legislation and Public Policy, NICHD, NIH, 6710B Rockledge Drive, Bethesda, MD 20892-7510, natasha.williams2@nih.gov, (240) 551-4985.

SUPPLEMENTARY INFORMATION: This notice is pursuant to 42 U.S.C. 285g. The National Advisory Child Health and Human Development Council Stillbirth Working Group meeting will be open to the public as a virtual meeting. Individuals who need special assistance, such as sign language interpretation or other reasonable accommodations, should notify the Contact Person listed in advance of the meeting.

Any interested person may file written comments with the committee by forwarding the statement to the Contact Person listed on this notice. The statement should include the name, address, telephone number and when applicable, the business or professional affiliation of the interested person. Information is also available on the Institute's/Center's home page: https://www.nichd.nih.gov/about/advisory, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS).

Alison N. Cernich,
Deputy Director, Eunice Kennedy Shriver National Institute of Child Health and Human Development, National Institutes of Health.

[FR Doc. 2023-21854 Filed 10-2-23; 8:45 am]

BILLING CODE 4140-01-P